OFFICE OF MANAGEMENT AND BUDGET

Information Collection Activities: Proposed Collection; Comment Request

AGENCY: Office of Management and Budget, Office of Federal Financial Management.

ACTION: Notice; Request for comments.

SUMMARY: In accordance with the Paperwork Reduction Act (44 U.S.C. 3501 et seq.), the Office of Management and Budget (OMB) invites the general public and Federal agencies to comment on the renewal without change of the Standard Form 425, Federal Financial Report and the SF-425A, Federal Financial Report Attachment. Both forms are used in reporting financial information under grants and cooperative agreements.

DATES: Comments must be received by September 26, 2011. Due to potential delays in OMB's receipt and processing of mail sent through the U.S. Postal Service, we encourage respondents to submit comments electronically to ensure timely receipt. We cannot guarantee that comments mailed will be received before the comment closing date.

ADDRESSES: Comments may be sent through regulations.gov, a Federal E-Government Web site that allows the public to find, review, and submit comments on documents that agencies have published in the Federal Register and that are open for comment. Simply type “FFR renewal” (in quotes) in the Comment or Submission search box, click Go, and follow the instructions for submitting comments. Comments received by the date specified above will be included as part of the official record.

Marguerite Pridgen, Office of Federal Financial Management, Office of Management and Budget, 725 17th Street, NW., Washington, DC 20503; telephone 202-395-7844; fax 202-395-3952; e-mail mpridgen@omb.eop.gov.

FOR FURTHER INFORMATION CONTACT: Marguerite Pridgen at the addresses noted above.

SUPPLEMENTARY INFORMATION: In the Paperwork Reduction Act notice published on August 13, 2008 [73 FR 47246], OMB directed Federal agencies to transition their grant and cooperative agreement recipients from using the Standard Forms 269, 269A, 272, and 272A to using the Standard Form (SF) 425, Federal Financial Report and Standard Form 425A, Federal Financial Report Attachment by no later than October 1, 2009. With this first renewal cycle for the SF-425 and SF-425A, the Office of Management and Budget (OMB) invites the general public and Federal agencies to comment on the renewal without change of the Standard Form 425, Federal Financial Report and the SF-425A, Federal Financial Report Attachment, which are posted at http://www.whitehouse.gov/omb/grants_forms. We are particularly interested in feedback on (1) How the SF-425 and SF-425A are an improvement over the data collections they replaced (SF-269, SF-269A, SF-272, and SF-272A); (2) how using a specification for a data exchange or other data model instead of structured forms could facilitate the submission and collection of the financial data identified in the SF-425 and SF-425A; and (3) any proposals, use cases, specifications, or models for eliminating redundancies in reporting grant financial information and increasing its usefulness regardless of how the financial information is reported (form, data input, system-to-system, etc.)

OMB Control No.: 0348-0061.

Title: Federal Financial Report.

Form No.: SF-425, SF-425A.

Type of Review: Renewal of a currently approved collection.

Respondents: States, Local Governments, Universities, Non-Profit Organizations.

Number of Responses: 1,200,000.

Estimated Time per Response: 60 minutes.

Needs and Uses: The SF-425 is used to collect financial information for recipients of grants and cooperative agreements and related transactions under nonconstruction grant programs.

Debra J. Bond,
Deputy Controller.

[FR Doc. 2011-19120 Filed 7-27-11; 8:45 am]

BILLING CODE